FEDERAL COMMUNICATIONS COMMISSION

47 CFR Part 90

[WP Docket No. 07-100; FCC 09-29]

Amendment of Part 90 of the Commission's Rules; Correction

AGENCY: Federal Communications Commission.

ACTION: Final rule; correction.

SUMMARY: The Federal Communications Commission is correcting a final rule that appeared in the Federal Register of May 21, 2009, 74 FR 23799. The document issued a measurement procedure for the maximum conducted output power of radio equipment used in the 4.9 GHz frequency band.

DATES: Effective June 22, 2009.

FOR FURTHER INFORMATION CONTACT: Thomas Eng, Policy Division, Public Safety and Homeland Bureau, Federal Communications Commission, Washington, DC 20554, at (202) 418-0019, TTY (202) 418-7233, via e-mail at Thomas.Eng@fcc.gov, or via U.S. Mail at Federal Communications Commission, Public Safety and Homeland Security Bureau, 445 12th Street, SW., Washington, DC 20554.

SUPPLEMENTARY INFORMATION: The Federal Communications Commission published a document in the Federal Register on May 21, 2009, 74 FR 23799, inadvertently omitting the words “using instrumentation.” This correction is necessary for clarification. In rule FR Doc. E9-11908 published May 21, 2009, 74 FR 23799 make the following correction:

§ 90.1215 [Corrected]

On page 23803, in the third column, in § 90.1215 Power Limits, in paragraph (c), the first sentence, “The maximum conducted output power is measured as a conducted emission over any interval of continuous transmission calibrated in terms of an RMS-equivalent voltage.” is corrected to read “The maximum conducted output power is measured as a conducted emission over any interval of continuous transmission using instrumentation calibrated in terms of an RMS-equivalent voltage.”

Marlene H. Dortch,
Secretary.

[FR Doc. E9-13665 Filed 6-9-09; 8:45 am]

BILLING CODE 6712-01-P